COMMODITY FUTURES TRADING COMMISSION

17 CFR Part 40

RIN 3038-AF28

Provisions Common to Registered Entities; Correction

AGENCY: Commodity Futures Trading Commission.

ACTION: Final rule; correction.

SUMMARY: The Commodity Futures Trading Commission (Commission) is correcting a final rule that appeared in the Federal Register on November 7, 2024. The document clarified, simplified and enhanced the utility of certain regulations for registered entities, market participants and the Commission that govern how registered entities submit self-certifications, and requests for approval, of their rules, rule amendments, and new products for trading and clearing, as well as the Commission's review and processing of such submissions.

DATES: Effective December 9, 2024.

FOR FURTHER INFORMATION CONTACT: Rachel Kaplan, Senior Special Counsel, rkaplan@cftc.gov, 202-418-6233, Steven Benton, Industry Economist, sbenton@cftc.gov, 202-418-5617, and Nancy Markowitz, Deputy Director, nmarkowitz@cftc.gov, 202-418-5453, Division of Market Oversight, and Eileen Chotiner, Senior Compliance Analyst, echotiner@cftc.gov, 202-418-5467, Division of Clearing and Risk, Commodity Futures Trading Commission, Three Lafayette Centre, 1151 21st Street NW, Washington, DC 20581.

SUPPLEMENTARY INFORMATION: In FR Doc. 2024-24388 appearing on page 88594 in the Federal Register of Thursday, November 7, 2024, the following corrections are made:

§ 40.2 [Corrected]

1. On page 88623 in the second column, in § 40.2, before the first sentence in paragraph (a) introductory text, add the paragraph heading “Submission requirements.”.

§ 40.5 [Corrected]

2. On page 88625 in the first column, in § 40.5, in amendment 9h, the instruction “Revising paragraph (d) introductory text and (d)(1);” is corrected to read “Revising paragraph (d) introductory text and adding new paragraph (d)(1);”

3. On page 88625 in the second column, in § 40.5, in amendment 9m, the instruction “Redesignating paragraphs (f)(1) and (2) as paragraphs (e)(1) and (2) respectively; and” is corrected to read “Redesignating paragraph (f) as paragraph (e) and revising newly redesignated paragraph (e); and”

4. On page 88625 in the second column, in § 40.5, remove amendment 9n.

5. On page 88625 in the third column, in § 40.5, “(c) * * *” is corrected to read “(c) Commission review.”.

Dated: December 3, 2024.
Robert Sidman,
Deputy Secretary of the Commission.

[FR Doc. 2024-28742 Filed 12-5-24; 8:45 am]

BILLING CODE 6351-01-P